DEPARTMENT OF COMMERCE

National Oceanic and Atmospheric Administration

RIN 0648-XB133

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Joint Marianas and American Samoa Archipelago Plan Team (Joint PT) and Hawaii and Pacific Remote Island Area Archipelago Plan Team (HI-PRIA PT) to review the status of the nearshore fisheries, data collection issues and improvements, improvements in the Annual Catch Limit specifications, and developing Cooperative Research Priorities.

DATES: The Joint PT meeting will be held on April 16-18, 2012 and the HI-PRIA PT on April 19-20, 2012. For specific times and agendas, see SUPPLEMENTARY INFORMATION.

ADDRESSES: The Joint PT and HI-PRIA PT meetings will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the Joint PT Meeting

April 16, 2012—1 p.m.-5 p.m.

1. Welcome and Introductions.

2. Approval of the Agenda.

3. Assignment of Rapporteurs.

4. Guiding Principles for Development of Effective Fishery Monitoring Programs.

5. Evaluation of data collection programs in the Western Pacific.

6. Improving fishery data collections and status reporting.

A. Summary of the Fishery Data Collection Improvement Workshop.

B. Update on Status of Fishery Data Collection Improvement Actions.

C. Data collection in military installations in Guam.

D. Discussion on the fishery characterization based on creel survey performance.

April 17, 2012—8:30 a.m.-5 p.m.

7. Review of the Status of the Western Pacific Insular Fisheries.

A. American Samoa

i. Coral reef and crustacean fisheries.

ii. Bottomfish fisheries.

iii. Precious corals fishery and coral reef habitat status.

iv. Update on Bio-Sampling Program data summary.

v. Non-stock related factors affecting Catch Per Unit Effort (CPUE) in the coral reef fisheries.

vi. Estimation of non-commercial landings.

vii. Administrative and regulatory updates.

viii. Discussions.

B. Commonwealth of Northern Mariana Islands

i. Coral reef fisheries.

ii. Bottomfish fisheries.

iii. Crustacean and precious coral fisheries.

iv. Coral reef habitat status.

v. Update on Bio-Sampling Program and Spearfishing Market-flow project.

vi. Estimation of non-commercial landings.

vii. Administrative and regulatory updates.

viii. Discussions.

C. Guam

i. Coral reef fisheries.

ii. Bottomfish fisheries.

iii. Crustacean fisheries.

iv. Precious corals fishery and coral reef habitat status.

v. Update on Bio-Sampling Program Data Summary.

vi. Estimation of non-commercial landings.

vii. Administrative and regulatory updates.

viii. Discussions.

8. Format and information needs for the Annual Report Modules.

9. Improving Annual Catch Limit (ACL) specifications.

A. Surplus production model using biomass, catch, and natural mortality estimates.

B. Use of other data sources (e.g. commercial receipt book, BioSampling).

C. Discussions.

April 18, 2012—8:30 a.m.-5 p.m.

10. Essential Fish Habitat/Habitat Area of Particular Concern (EFH/HAPC).

A. Territory bottomfish, pelagic, and precious corals.

B. Coral reef ecosystem management unit species.

C. Coral reef EFH Project.

11. Status of the territorial bottomfish assessment.

12. The Council Five-Year Research Priorities.

13. Development and Review of Cooperative Research Priorities and Projects.

14. Other Business.

15. Public Comments.

16. Rapporteur reports.

17. General discussions and Plan Team recommendations.

Schedule and Agenda for the Hawaii and Pacific Remote Island Area Plan Team meeting

April 19, 2012—8:30 a.m.-5 p.m.

1. Welcome and Introductions.

2. Approval of the Agenda.

3. Assignment of Rapporteurs.

4. Guiding Principles for Development of Effective Fishery Monitoring Programs.

5. Status of Fishery Monitoring Programs and Research Projects.

A. Coral reef fisheries.

B. Crustacean fisheries.

C. Precious coral fisheries and gold coral moratorium.

i. Status of the black coral surveys.

D. Bottomfish fisheries.

i. Main Hawaiian Island Annual Catch Target Monitoring.

ii. Performance of trip level reporting.

iii. Status of Cooperative Research Projects.

iv. Evaluation of effectiveness of Bottomfish Restricted Areas.

E. Hawaii non-commercial landing estimation.

F. Administrative and regulatory updates.

G. Report on reef fish tagging in Palmyra Atoll.

H. Discussions.

6. Improving ACL specifications and stock assessments.

A. Overview of the ACL process and FY2012 specification.

B. Report on the Council—NMFS ACL Revisited Workshop.

C. Surplus production model using biomass, catch, and natural mortality estimates.

D. Length-based estimation of fishing and natural mortality in Hawaii coral reef fishes.

E. Kona crab stock assessment.

F. Update on the kumu stock assessment.

G. Use of fish trap CPUE as proxy for estimating stock abundance.

H. Discussions.

April 20, 2012—8:30 a.m.-5 p.m.

7. Data collection and reporting issues.

A. Report on the Non-Commercial Data Workshop.

B. Report on the Pacific Island Regional Office data contracts.

C. Report on the Division of Boating and Ocean Recreation boat registry survey.

D. Discussion on potential improvements in the Hawaii data collection.

E. Annual Archipelagic Fishery Ecosystem Reports.

F. Discussions.

8. Essential Fish Habitat/Habitat Area of Particular Concern.

A. Hawaii coral reef EFH project.

B. Hawaii EFH and HAPC for coral reef, pelagic and precious corals.

C. Discussions.

9. Protected species issues.

A. List of fisheries 2012: Marine Mammal Protection Act issues.

10. Developing Cooperative Research priorities.

11. Discussions.

12. Other Business.

13. Public Comment.

14. HI-PRIA PT recommendations.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 27, 2012.
Tracey L. Thompson,
Acting Director, Office of Sustainable Fisheries, National Marine Fisheries Service.

[FR Doc. 2012-7660 Filed 3-29-12; 8:45 am]

BILLING CODE 3510-22-P